SMALL BUSINESS ADMINISTRATION

[Declaration of Disaster #P056]

State of Georgia

As a result of the President's major disaster declaration for Public Assistance on September 24, 2004, and a notice from the Department of Homeland Security—Federal Emergency Management Agency dated September 27, 2004, the U.S. Small Business Administration is activating its disaster loan program only for private non-profit organizations that provide essential services of a governmental nature. I find that Appling, Atkinson, Bacon, Baker, Ben Hill, Berrien, Bibb, Bleckley, Brantley, Brooks, Butts, Calhoun, Camden, Candler, Charlton, Clinch, Coffee, Colquitt, Cook, Crawford, Crisp, Decatur, Dodge, Dooly, Dougherty, Echols, Elbert, Emanuel, Evans, Glynn, Grady, Greene, Hancock, Harris, Hart, Houston, Irwin, Jasper, Jeff Davis, Johnson, Jones, Lamar, Lanier, Laurens, Long, Lowndes, Macon, McIntosh, Monroe, Montgomery, Peach, Pike, Pulaski, Putnam, Rabun, Schley, Spalding, Sumter, Talbot, Taliaferro, Tattnall, Taylor, Telfair, Thomas, Tift, Toombs, Treutlen, Turner, Twiggs, Upson, Ware, Wayne, Washington, Webster, Wheeler, Wilcox, Wilkes, Wilkinson, and Worth Counties in the State of Georgia constitute a disaster area due to damages caused by Tropical Storm Frances occurring on September 3, 2004 and continuing. Applications for loans for physical damage as a result of this disaster may be filed until the close of business on November 23, 2004 at the address listed below or other locally announced locations: U.S. Small Business Administration, Disaster Area 2 Office, One Baltimore Place, Suite 300, Atlanta, GA 30308.

The interest rates are:

| Percent
For Physical Damage:
Non-profit organizations without credit available elsewhere | 2.900
Non-profit organizations with credit available elsewhere | 4.875

The number assigned to this disaster for physical damage is P05608.

(Catalog of Federal Domestic Assistance Program Nos. 59008.)

Dated: September 28, 2004.
Herbert L. Mitchell,
Associate Administrator for Disaster Assistance.

[FR Doc. 04-22383 Filed 10-5-04; 8:45 am]

BILLING CODE 8025-01-P